DEPARTMENT OF COMMERCE

Foreign-Trade Zones Board

[Order No. 1904]

Reorganization/Expansion of Foreign-Trade Zone 104; (Expansion of Service Area and Expansion of Zone); Under Alternative Site Framework, Savannah, Georgia

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the World Trade Center Savannah, LLC, grantee of Foreign-Trade Zone 104, submitted an application to the Board (FTZ Docket B-50-2012, docketed 07-17-2012) for authority to expand the service area of the zone to include Richmond and Columbia Counties, Georgia, as described in the application, adjacent to the Columbia, South Carolina Customs and Border Protection port of entry; and the grantee proposes three usage-driven sites (Sites 18, 19 and 20);

Whereas, notice inviting public comment was given in the Federal Register (77 FR 43047, 07/23/12) and the application has been processed pursuant to the FTZ Act and the Board's regulations; and,

Whereas, the Board adopts the findings and recommendations of the examiner's report, and finds that the requirements of the FTZ Act and the Board's regulations are satisfied;

Now, therefore, the Board hereby orders:

The application to reorganize FTZ 104 to expand the service area and the zone under the ASF is approved, subject to the FTZ Act and the Board's regulations, including Section 400.13, and to the Board's standard 2,000-acre activation limit for the zone, and to a three-year ASF sunset provision for usage-driven sites that would terminate authority for Sites 18, 19 and 20 if no foreign-status merchandise is admitted for a bona fide purpose by June 30, 2016.

Signed at Washington, DC, this 10th day of June 2013.
Paul Piquado,
Assistant Secretary of Commerce for Import Administration, Alternate Chairman, Foreign-Trade Zones Board.

Attest:

Andrew McGilvray,
Executive Secretary.

[FR Doc. 2013-14360 Filed 6-14-13; 8:45 am]

BILLING CODE 3510-DS-P